DEPARTMENT OF JUSTICE

Notice of Lodging of Proposed Consent Decree Under The Clean Air Act

On October 2, 2012, the Department of Justice lodged a proposed consent decree with the United States District Court for the District of Alaska in the lawsuit entitled United States v. Golden Valley Electric Association, Inc., and Alaska Industrial Development and Export Authority, Civil Action No. 4:12-cv-00025-RRB.

The United States filed this proposed consent decree simultaneously with a complaint under the Clean Air Act. Pursuant to Section 167 of the Clean Air Act, 42 U.S.C. 7477, the United States' complaint, on behalf of the United States Environmental Protection Agency, seeks injunctive relief to prevent violations of the Clean Air Act's (CAA's) Prevention of Significant Deterioration (PSD) requirements at Unit 2 of the Defendants' coal fired power plant in Healy, Alaska. The proposed consent decree would require Golden Valley Electric Association, Inc. (GVEA) and the Alaska Industrial Development and Export Authority (AIDEA) to perform specified injunctive relief at the plant to address certain emissions. Pursuant to the terms of the consent decree, a civil penalty of $115,000 would be paid and $250,000 in funds would be devoted to an environmental mitigation project relating to stove change-outs in Fairbanks and the Denali Borough, Alaska. The proposed consent decree would resolve the alleged PSD claim as well as certain other CAA claims on Unit 2 at the Healy power plant.

The publication of this notice opens a period for public comment on the proposed consent decree. Comments should be addressed to the Assistant Attorney General, Environment and Natural Resources Division, and should refer to United States v. Golden Valley Electric Association, Inc., and Alaska Industrial Development and Export Authority, D.J. Ref. No. No. 90-5-2-1-10615. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, D.C. 20044-7611.

During the public comment period, the proposed consent decree may be examined and downloaded at this Justice Department Web site: http://www.usdoj.gov/enrd/Consent_Decrees.html. We will provide a paper copy of the proposed consent decree upon written request and payment of reproduction costs. Please mail your request and payment to:

Consent Decree Library, U.S. DOJ—ENRD, P.O. Box 7611, Washington, DC 20044-7611.

Please enclose a check or money order for $15.50 (25 cents per page reproduction cost) payable to the United States Treasury.

Maureen M. Katz,
Assistant Chief, Environmental Enforcement Section, Environment and Natural Resources Division.

[FR Doc. 2012-24835 Filed 10-9-12; 8:45 am]

BILLING CODE 4410-15-P